DEPARTMENT OF TRANSPORTATION

Federal Aviation Administration

14 CFR Part 39

[Docket No. FAA-2005-21624; Directorate Identifier 2005-NE-17-AD; Amendment 39-15028; AD 2005-13-25R1]

RIN 2120-AA64

Airworthiness Directives; Turbomeca S.A. Arriel 2B Turboshaft Engines

AGENCY: Federal Aviation Administration (FAA), Department of Transportation (DOT).

ACTION: Final rule; request for comments.

SUMMARY: The FAA is revising an existing airworthiness directive (AD) for Turbomeca S.A. Arriel 2B turboshaft engines with Modification TU62A incorporated. That AD currently requires initial and repetitive inspections, cleaning, lubrication, and checks for proper operation of the HMU acceleration controller axle. This AD requires the same actions, but removes engines incorporating TU132 from the applicability and adds an optional terminating action for the repetitive actions required in AD 2005-13-25. This AD results from the engine manufacturer releasing a service bulletin to introduce modification TU132. We are issuing this AD to prevent loss of control of engine fuel flow in manual control mode or mixed control mode, which can lead to engine overspeed, and in-flight engine shutdown resulting in a forced autorotation landing or accident.

DATES: Effective May 22, 2007. The Director of the Federal Register previously approved the incorporation by reference of Alert Mandatory Service Bulletin (ASB) No. A292 73 2814, Update No. 1, dated January 11, 2005, on July 11, 2005 (70 FR 36480, June 24, 2005). The Director of the Federal Register approved the incorporation by reference of ASB No. A292 73 2814, Update No. 2, dated December 15, 2006, as of May 22, 2007.

We must receive any comments on this AD by June 18, 2007.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Turbomeca S.A., 40220 Tarnos, France; telephone 33 05 59 74 40 00, fax 33 05 59 74 45 15, for the service information identified in this AD.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: On June 16, 2005, the FAA issued AD 2005-13-25, Amendment 39-14162 (70 FR 36480, June 24, 2005). That AD requires initial and repetitive inspections, cleaning, lubrication, and checks for proper operation of the hydromechanical unit (HMU) acceleration controller axle on engines that incorporate modification TU62A. That AD was the result of several reports of the HMU acceleration controller axle sticking that resulted in engine overspeed and in-flight engine shutdown or uncommanded in-flight engine shutdown. That condition, if not corrected, could result in loss of control of engine fuel flow in manual control mode or mixed control mode, which can lead to engine overspeed, and in-flight engine shutdown resulting in a forced autorotation landing or accident.

Actions Since We Issued AD 2005-13-25

Since we issued that AD, the manufacturer introduced modification TU132, which includes a new P3 cover with a self-lubricating coating and a reduced centering length in the P3 cover. The European Aviation Safety Authority (EASA) which is the airworthiness authority for the European Union, recently notified us that Turbomeca S.A. has introduced modification TU132 to eliminate the cause of an unsafe condition on Turbomeca S.A. Arriel 2B turboshaft engines. This AD requires inspecting and lubricating the P3 cover and HMU acceleration control axle on HMUs that are not modified to TU132. We are issuing this AD to prevent loss of control of engine fuel flow in the manual control mode or mixed control mode, which can lead to engine overspeed, and in-flight engine shutdown resulting in a forced autorotation landing or accident.

Relevant Service Information

We have reviewed and approved the technical contents of Turbomeca Alert Mandatory Service Bulletin (ASB) No. A292 73 2814, Update No. 2, dated December 15, 2006. That ASB describes procedures for inspecting, lubricating, and checking for proper operation of the HMU acceleration controller axle. The EASA issued AD 2007-0026, dated February 1, 2007, in order to ensure the airworthiness of these Arriel 2B turboshaft engines in the European Union.

Bilateral Airworthiness Agreement

This engine model is manufactured in France, and is type certificated for operation in the United States under the provisions of section 21.29 of the Federal Aviation Regulations (14 CFR 21.29) and the applicable bilateral airworthiness agreement. Under this bilateral airworthiness agreement, the EASA has kept the FAA informed of the situation described above. We have examined the findings of the EASA, reviewed all available information, and determined that AD action is necessary for products of this type design that are certificated for operation in the United States.

FAA's Determination and Requirements of This AD

The unsafe condition described previously is likely to exist or develop on other Turbomeca S.A. Arriel 2B turboshaft engines of the same type design. We are issuing this AD to prevent loss of control of engine fuel flow in the manual control mode or mixed control mode, which can lead to engine overspeed, and in-flight engine shutdown resulting in a forced autorotation landing or accident. This AD requires initial and repetitive inspections, cleaning, lubrication, and checks for proper operation of the HMU acceleration controller axle. You must use the service information described previously to perform the actions required by this AD.

FAA's Determination of the Effective Date

Since we are reducing the applicability of this AD, a situation exists that allows the immediate adoption of this AD. We have found that notice and opportunity for public comment before issuing this AD are unnecessary.

Comments Invited

This AD is a final rule that involves requirements affecting flight safety and was not preceded by notice and an opportunity for public comment; however, we invite you to send us any written relevant data, views, or arguments regarding this AD. Send your comments to an address listed under ADDRESSES. Include “AD Docket No. FAA-2005-21624; Directorate Identifier 2005-NE-17-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-14162 70 FR 36480, June 24, 2005, and by adding a new airworthiness directive, Amendment 39-15028, to read as follows:

2005-13-25R1 Turbomeca S.A.: Amendment 39-15028. Docket No. FAA-2005-21624; Directorate Identifier 2005-NE-17-AD.

Effective Date

(a) This airworthiness directive (AD) becomes effective May 22, 2007.

Affected ADs

(b) This AD revises AD 2005-13-25, Amendment 39-14162.

Applicability

(c) This AD applies to Turbomeca S.A. Arriel 2B turboshaft engines with Modification TU62A incorporated, but do not have Modification TU132. These engines are installed on, but not limited to, Eurocopter AS350B3 helicopters.

Unsafe Condition

(d) This AD results from the engine manufacturer releasing a service bulletin to introduce modification TU132. We are issuing this AD to prevent loss of control of engine fuel flow in manual control mode or mixed control mode, which can lead to engine overspeed, and in-flight engine shutdown resulting in a forced autorotation landing or accident.

Compliance

(e) You are responsible for having the actions required by this AD performed within the compliance times specified unless the actions have already been done.

Hydromechanical Units (HMUs) Without Modification TU132

(f) Within 20 operating hours after July 11, 2005, the AD's original effective date, inspect, clean, lubricate, and check for proper operation of the HMU acceleration controller axle. Use paragraph 2 of Instructions to be Incorporated of Turbomeca Alert Mandatory Service Bulletin No. A292 73 2814, Update No. 1, dated January 11, 2005, or Update No. 2, dated December 15, 2006, to do these actions.

(g) Thereafter, repeat the actions specified in paragraph (f) of this AD within every 210 operating hours.

Optional Terminating Action

(h) Modifying the HMU to Modification TU132, terminates the repetitive inspection requirements specified in paragraph (g) of this AD. Turbomeca Service Bulletin No. 292 73 2132, dated May 31, 2006, contains information on modifying the HMU to Modification TU132.

Alternative Methods of Compliance

(i) The Manager, Engine Certification Office, has the authority to approve alternative methods of compliance for this AD if requested using the procedures found in 14 CFR 39.19.

Related Information

(j) The EASA airworthiness directive 2007-0026, dated February 1, 2007, also addresses the subject of this AD.

Material Incorporated by Reference

(k) You must use Turbomeca Alert Mandatory Service Bulletin (ASB) No. A292 73 2814, Update No. 1, dated January 11, 2005; or ASB No. A292 73 2814, Update No. 2, dated December 15, 2006, to perform the actions required by this AD. The Director of the Federal Register previously approved the incorporation by reference of ASB No. A292 73 2814, Update No. 1, dated January 11, 2005, on July 11, 2005 (70 FR 36480; June 24, 2005). The Director of the Federal Register approved the incorporation by reference of ASB No. A292 73 2814, Update No. 2, dated December 15, 2006, in accordance with 5 U.S.C. 552(a) and 1 CFR part 51. Contact Turbomeca S.A., 40220 Tarnos, France; telephone 33 05 59 74 40 00, fax 33 05 59 74 45 15, for a copy of this service information. You may review copies at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html.

Issued in Burlington, Massachusetts, on April 9, 2007.
Peter A. White,
Acting Manager, Engine and Propeller Directorate, Aircraft Certification Service.

[FR Doc. E7-7115 Filed 4-16-07; 8:45 am]

BILLING CODE 4910-13-P